DEPARTMENT OF THE INTERIOR

Fish and Wildlife Service

50 CFR Parts 21 and 22

RINs 1018-AG11 and 1018-AT60

Migratory Bird Permits; Changes in the Regulations Governing Falconry and Raptor Propagation; Final Environmental Assessment on Take of Raptors From the Wild for Falconry and Raptor Propagation

AGENCY: Fish and Wildlife Service, Interior.

ACTION: Notice of availability.

SUMMARY: We, the U.S. Fish and Wildlife Service, announce the availability of a Final Environmental Assessment (FEA) evaluating the take of raptors from the wild for use in falconry and in raptor propagation, and a Finding of No Significant Impact (FONSI) for take of raptors for those purposes. We have prepared the FEA and the FONSI as part of the process we must follow to finalize two rules under the National Environmental Policy Act.

ADDRESSES: The documents are available from the Division of Migratory Bird Management, U.S. Fish and Wildlife Service, 4401 North Fairfax Drive, Mail Stop 4107, Arlington, Virginia 22203-1610. They also are available on the Division of Migratory Bird Management Web pages at http://migratorybirds.fws.gov.

FOR FURTHER INFORMATION CONTACT: Dr. George T. Allen, Division of Migratory Bird Management, U.S. Fish and Wildlife Service, at 703-358-1714.

SUPPLEMENTARY INFORMATION: In the draft Environmental Assessment, we considered three alternatives for amending the falconry and raptor propagation regulations. In particular, at the request of the Association of Fish and Wildlife Agencies, we considered elimination of the federal/state falconry permitting system and replacing it with a state permitting system operating within a prescribed federal framework.

We received 313 electronic or written comment letters on the draft Environmental Assessment. We modified the Draft Environmental Assessment to respond to concerns expressed by agencies, organizations, and individuals.

Having reviewed the comments on the draft, our proposed action is to establish national take levels of concern for take of raptor species based on the published data for, and biology of, each species; to eliminate the federal permitting for falconry, but to leave the current captive propagation federal permitting program in place. Based on this assessment, I have signed the Finding of No Significant Impact for take of raptors from the wild for use in falconry and in raptor propagation.

Dated: May 25, 2007.
Todd Willens,
Acting Assistant Secretary for Fish and Wildlife and Parks.

[FR Doc. E7-10909 Filed 6-5-07; 8:45 am]

BILLING CODE 4310-55-P